ENVIRONMENTAL PROTECTION AGENCY

40 CFR Part 282

[EPA-R01-UST-2019-0421; FRL-10003-05-Region 1]

New Hampshire: Final Approval of State Underground Storage Tank Program Revisions, Codification, and Incorporation by Reference; Correction

AGENCY: Environmental Protection Agency (EPA).

ACTION: Proposed rule; correction.

SUMMARY: This document corrects the heading, Agency, and Summary to a proposed rule published in the Federal Register of November 1, 2019, regarding approval of revisions to the State of New Hampshire's Underground Storage Tank (UST) program. This correction clarifies the title of the Agency proposing the rule.

DATES: Comments were due by December 2, 2019.

FOR FURTHER INFORMATION CONTACT: Susan Hanamoto, RCRA Waste Management, UST, and Pesticides Section; Land, Chemicals, and Redevelopment Division; EPA Region 1, 5 Post Office Square, Suite 100, (Mail Code 07-1), Boston, MA 02109-3912.

SUPPLEMENTARY INFORMATION:

Correction

In proposed rule FR Doc. 2019-23708 appearing on page 58674 in the issue of November 1, 2019, make the following corrections:

1. On page 58674, in the heading, the agency name is corrected to read “Environmental Protection Agency”.

2. On page 58674, in the AGENCY caption, the agency name is corrected to read “Environmental Protection Agency (EPA)”.

3. On page 58674, in the first sentence of the summary, “Environmental Services Agency” is corrected to read “Environmental Protection Agency”.

Dated: November 5, 2019.
Nancy Barmakian,
Acting Director of Land, Chemicals, and Redevelopment Division.

[FR Doc. 2019-26689 Filed 12-18-19; 8:45 am]

BILLING CODE 6560-50-P